ENVIRONMENTAL PROTECTION AGENCY

[FRL-7670-6]

Science Advisory Board (SAB) Staff Office; Notification of Upcoming Meeting of the Critical Ecosystem Assessment Model (CrEAM) Review Panel

AGENCY: Environmental Protection Agency (EPA).

ACTION: Notice.

SUMMARY: The EPA's Science Advisory Board (SAB) Staff Office is announcing a public meeting of the SAB Critical Ecosystem Assessment Model (CrEAM) Review Panel.

DATES: June 29-30, 2004. The SAB Critical Ecosystem Assessment Model Review Panel will meet face-to-face starting Tuesday, June 29 at 9 a.m., adjourning at approximately 4 p.m. (central time) Wednesday, June 30. The purpose of this meeting is to conduct a review of the CrEAM developed by EPA Region V.

ADDRESSES: The public meeting of the Panel will be held in the Lake Huron Room of the Adamkus Conference and Training Center, U.S. EPA Region V Office, 77 West Jackson Boulevard, Chicago IL 60643.

FOR FURTHER INFORMATION CONTACT: Any member of the public wishing further information regarding the public meeting may contact Dr. Thomas Armitage, Designated Federal Officer (DFO), U.S. EPA SAB by telephone/voice mail at (202) 343-9995, fax at (202) 233-0643, by e-mail at armitage.thomas@epa.gov, or by mail at U.S. EPA SAB (1400F), 1200 Pennsylvania Ave., NW., Washington, DC, 20460. General information about the SAB and the meeting location may be found on the SAB Web site, http://www.epa.sab.

SUPPLEMENTARY INFORMATION: Summary: Pursuant to the Federal Advisory Committee Act, Pub. L. 92-463, notice is hereby given that the Panel will hold a public meeting to provide advice to the EPA on the Agency's Critical Ecosystem Assessment Model. The dates and times for the meeting are provided above.

Background: Background on the meeting described in this notice was provided in a Federal Register Notice published on April 15, 2004 (69 FR 21524-21525). The SAB Staff Office has determined that the advisory on the CrEAM will be conducted by the SAB's Ecological Processes and Effects Committee augmented with experts in ecology and the use of geographic information system technology to evaluate data and conduct landscape scale analyses. A roster of Panel members, their biosketches, and the meeting agenda will be posted on the SAB Web site prior to the meeting.

Availability of Meeting Materials: A copy of the draft agenda for the meeting that is the subject of this notice will be posted on the SAB Web site prior to the meeting. Copies of the CrEAM review document may be obtained by contacting Dr. Mary White, EPA Region V, by telephone: (312) 353-5878, or e-mail: white.mary@epa.gov.

Procedures for Providing Public Comments: It is the policy of the EPA SAB to accept written public comments of any length, and to accommodate oral public comments whenever possible. The SAB Staff Office expects that public statements presented at the CrEAM panel meeting will not be repetitive of previously submitted oral or written statements. Oral Comments: In general, each individual or group requesting an oral presentation at a face-to-face meeting will be limited to a total time of ten minutes (unless otherwise indicated). Interested parties should contact the DFO in writing (e-mail, fax or mail—see contact information above) by close of business June 21, 2004 in order to be placed on the public speaker list for the meeting. Speakers should bring at least 35 copies of their comments and presentation slides for distribution to the participants and public at the meeting. Written Comments: Although the SAB Staff Office accepts written comments until the date of the meeting (unless otherwise stated), written comments should be received in the SAB Staff Office at least seven business days prior to the meeting date so that the comments may be made available to the panel for their consideration. Comments should be supplied to the DFO at the address/contact information noted above in the following formats: one hard copy with original signature, and one electronic copy via e-mail (acceptable file format: Adobe Acrobat, WordPerfect, Word, or Rich Text files in IBM-PC/Windows 95/98 format). Those providing written comments and who attend the meeting are also asked to bring 35 copies of their comments for public distribution.

Meeting Accommodations: Individuals requiring special accommodation to access the public meetings listed above should contact the DFO at least five business days prior to the meeting so that appropriate arrangements can be made.

Dated: June 1, 2004.
Vanessa T. Vu,
Director, EPA Science Advisory Board Staff Office.

[FR Doc. 04-12776 Filed 6-4-04; 8:45 am]

BILLING CODE 6560-50-P